FEDERAL RESERVE SYSTEM

Change in Bank Control Notices; Acquisitions of Shares of a Savings and Loan Holding Company

The notificants listed below have applied under the Change in Bank Control Act (12 U.S.C. 1817(j)) and the Board's Regulation LL (12 CFR Part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 29, 2013.

A. Federal Reserve Bank of Kansas City (Dennis Denney, Assistant Vice President) 1 Memorial Drive, Kansas City, Missouri 64198-0001:

1. Kathryn R. Ryan, Englewood, Colorado, as co-trustee, to acquire voting shares of the Kathryn R. Ryan 2007 GST Exempt Family Trust, Oklahoma City, Oklahoma, and thereby indirectly acquire voting shares of Midland Financial Co., and MidFirst Bank, both in Oklahoma City, Oklahoma.

2. Kathryn R. Ryan, Englewood, Colorado, as co-trustee, to acquire voting shares of Kathryn R. Ryan 2007 Non-Exempt Family Trust, Oklahoma City, Oklahoma, and thereby indirectly acquire voting shares of Midland Financial Co., and MidFirst Bank, both in Oklahoma City, Oklahoma.

Board of Governors of the Federal Reserve System, October 8, 2013.
Michael J. Lewandowski,
Associate Secretary of the Board.

[FR Doc. 2013-24448 Filed 10-11-13; 8:45 am]

BILLING CODE 6210-01-P